DEPARTMENT OF STATE

22 CFR Part 22

[Public Notice: 8858]

RIN 1400-AD47

Schedule of Fees for Consular Services, Department of State and Overseas Embassies and Consulates—Visa and Citizenship Services Fee Changes; Correction

AGENCY: Department of State.

ACTION: Interim final rule; correction.

SUMMARY: The Department of State published a Federal Register document on August 28, 2014, in Volume 79, No. 167, page 51247, amending the Schedule of Fees for Consular Services (Schedule) for certain nonimmigrant visa application processing fees, certain immigrant visa application processing and special visa services fees, and certain citizenship services fees. The document contained an incorrect effective date. This document corrects the document by changing the effective date that the new fees will go into effect from September 6, 2014 to September 12, 2014 and the date that comments must be received by from October 21, 2014 to October 26, 2014.

DATES: The interim rule published on August 28, 2014 (79 FR 51247), becomes effective September 12, 2104. Written comments must be received on or before October 26, 2014.

ADDRESSES: Interested parties may submit comments to the Department by any of the following methods:

• Visit the Regulations.gov Web site at: http://www.regulations.gov and search the RIN 1400-AD47 or docket number DOS-2014-0016.

• Mail (paper, disk, or CD-ROM): U.S. Department of State, Office of the Comptroller, Bureau of Consular Affairs (CA/C), SA-17 8th Floor, Washington, DC 20522-1707.

• E-Mail: fees@state.gov. You must include the RIN (1400-AD47) in the subject line of your message.

• All comments should include the commenter's name, the organization the commenter represents, if applicable, and the commenter's address. If the Department is unable to read your comment for any reason, and cannot contact you for clarification, the Department may not be able to consider your comment. After the conclusion of the comment period, the Department will publish a Final Rule (in which it will address relevant comments) as expeditiously as possible.

FOR FURTHER INFORMATION CONTACT: Celeste Scott, Special Assistant, Office of the Comptroller, Bureau of Consular Affairs, Department of State; phone: 202-485-6681, telefax: 202-485-6826; Email: fees@state.gov.

SUPPLEMENTARY INFORMATION: In the Federal Register of August 28, 2014, in Volume 79, No. 167, page 51247, in the DATES section of the document it states the dates the new fees become effective is September 6, 2014, and written comments must be received on or before October 21, 2014. The correct date new fees become effective is September 12, 2014, and written comments must be received on or before October 26, 2014.

Correction

In FR Doc 2014-20516, appearing on page 51247 in the Federal Register of August 28, 2014 (79 FR 51247), in the third column, the effective date and comment period end date are corrected in the DATES section of this document.

Dated: August 28, 2014.
Patrick Kennedy,
Under Secretary of State for Management, Department of State.

[FR Doc. 2014-21045 Filed 9-2-14; 8:45 am]

BILLING CODE 4710-06-P